ENVIRONMENTAL PROTECTION AGENCY

[FRL-7990-8]

Notice of Proposed Administrative Settlement Pursuant to the Comprehensive Enviromental Response, Compensation, and Liability Act

AGENCY: Environmental Protection Agency (EPA).

ACTION: Notice; request for public comment.

SUMMARY: In accordance with section 122 (h)(1) of the Comprehensive Environmental Response, Compensation, and Liability Act, as amended (“CERCLA”), 42 U.S.C. 9622(i), notice is hereby given of a proposed administrative settlement concerning the RSR Corporation Superfund Site, the Murmur Corporation, and the Murmur Leasing Corporation.

The settlement requires the settling parties to pay $278,273 as payment of response costs to the Hazardous Substances Superfund. The settlement includes a covenant not to sue pursuant to sections 106 and 107 of CERCLA, 42, U.S.C. 9607. The settling parties also agree to assign and implement institutional controls.

For thirty (30) days following the date of publication of this notice, the Agency will receive written comments relating to this notice and will receive written comments relating to the settlement. The Agency will consider all comments received and may modify or withdraw its consent to the settlement if comments received disclose facts or considerations which indicate that the settlement is inappropriate, improper, or inadequate. The Agency's response to any comments received will be available for public inspection at 1445 Ross Avenue, Dallas, Texas 75202-2733.

DATES: Comments must be submitted on or before November 30, 2005.

ADDRESSES: The proposed settlement and additional background information relating to the settlement are available for public inspection at 1445 Ross Avenue, Dallas, Texas 75202-2733. A copy of the proposed settlement may be obtained from Barbara Aldridge, 6SF-AC, 1445 Ross Avenue, Dallas, Texas, 75202-2733, or by calling (214) 665-2712. Comments should reference the RSR Corporation Superfund Site, Dallas, Texas, and EPA Docket Number 6-03-05, and should be addressed to Barbara Aldridge at the address listed above.

FOR FURTHER INFORMATION CONTACT: George Malone, 1445 Ross Avenue, Dallas, Texas 75202-2733 or call (214) 665-8030.

Dated: October 19, 2005.
Richard E. Greene,
Regional Administrator, Region 6.

[FR Doc. 05-21623 Filed 10-28-05; 8:45 am]

BILLING CODE 6560-50-P